OFFICE OF PERSONNEL MANAGEMENT

President's Commission on White House Fellowships Advisory Committee: Closed Meeting

AGENCY: President's Commission on White House Fellowships, Office of Personnel Management.

ACTION: Notice of meeting.

SUMMARY: The President's Commission on White House Fellowships (PCWHF) was established by an Executive Order in 1964. The PCWHF is an advisory committee composed of Special Government Employees appointed by the President.

FOR FURTHER INFORMATION CONTACT: Elizabeth D. Pinkerton, 712 Jackson Place NW, Washington, DC 20503, Phone: 202-395-4522.

SUPPLEMENTARY INFORMATION:

The meeting is closed.

Name of Committee: President's Commission on White House Fellowships Mid-Year Meeting.

Date: January 4-5, 2021.

Time: 8:00 a.m.-5:30 p.m.

Place Eisenhower Executive Office Building, 1650 Pennsylvania Ave. NW, Washington, DC 20502.

Agenda: The Commission holds a mid-year meeting to talk with current Fellows on how their placements are going and discuss preparation for future events.

President's Commission on White House Fellowships.

Alexys Stanley,
Regulatory Affairs Director.

[FR Doc. 2020-28144 Filed 12-21-20; 8:45 am]

BILLING CODE 6325-44-P